DEPARTMENT OF HEALTH AND HUMAN SERVICES

Centers for Disease Control and Prevention

[Program Announcement 04173]

Epidemiological Follow-Up of Thyroid Disease in Persons Exposed to Radioactive Fallout From Atomic Weapons Testing at the Nevada Test Site; Notice of Intent To Fund Single Eligibility Award

A. Purpose

The Centers for Disease Control and Prevention (CDC) announces the intent to fund fiscal year (FY) 2004 funds for a grant program to study the prevalence of thyroid disorders and cancers in adults, who, as children, were exposed to radioactive fallout from the nuclear device testing at the Nevada Test Site, 1944-1957. The study is designed to provide a third (Phase III) diagnostic examination of the thyroid gland (approximately 55 years post exposure). The Catalog of Federal Domestic Assistance number for this program is 93.283.

B. Eligible Applicant

Assistance will be provided only to The University of Utah, Salt Lake City, Utah. The University of Utah, under a previous five-year cooperative agreement and a one-year continuation, initiated data collection activities. They are prepared to initiate activities for Phase III of the Utah Thyroid Disease Study. To date the University of Utah has completed:

1. Developing training materials for the field team.

2. Hired the first of three field teams to perform medical exams.

3. Identified physicians need to perform biopsies of the thyroid gland.

4. Updated the exposure (dose) model algorithm.

5. Revised exposures estimated during Phase II.

6. Completed the identification of subjects needed for the mortality study.

7. Begun to locate and identify the study cohort.

It is in the best interest of the CDC to continue funding the University of Utah to completion of the Utah Thyroid Disease Study.

C. Funding

Approximately $500,000 is available in FY 2004 to fund this award. It is expected that the award will begin on or before September 1, 2004, and will be made for a 12-month budget period and 12-month project period. Funding estimates may change.

D. Where to Obtain Additional Information

For general comments or questions about this announcement, contact: Technical Information Management, CDC Procurement and Grants Office, 2920 Brandywine Road, Atlanta, GA 30341-4146, Telephone: 770-488-2700.

For technical questions about this program, contact: Robert C. Whitcomb, Jr., Ph.D., Extramural Project Officer, 1600 Clifton Road NE, Mail Stop E-39, Atlanta, GA 30333, Telephone: 404-498-1800, E-mail: Rwhitcomb@cdc.gov.

Dated: May 3, 2004.
William P. Nichols,
Acting Director, Procurement and Grants Office, Centers for Disease Control and Prevention.

[FR Doc. 04-10536 Filed 5-7-04; 8:45 am]

BILLING CODE 4163-18-P